DEPARTMENT OF AGRICULTURE

Animal and Plant Health Inspection Service

[Docket No. APHIS-2007-0027]

ArborGen, LLC; Availability of an Environmental Assessment and Finding of No Significant Impact for a Controlled Release of Genetically Engineered Eucalyptus Hybrids

Correction

In notice document E7-12532 beginning on page 35215 in the issue of Wednesday, June 27, 2007, make the following correction:

On page 35216 in the first column under DATES, “June 28, 2007” should read “June 27, 2007”.

[FR Doc. Z7-12532 Filed 7-5-07; 8:45 am]

BILLING CODE 1505-01-D